ENVIRONMENTAL PROTECTION AGENCY

[FRL-9917-54-OEI]

Agency Information Collection Activities OMB Responses

AGENCY: Environmental Protection Agency (EPA).

ACTION:

Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Courtney Kerwin (202) 566-1669, or email at kerwin.courtney@epa.gov and please refer to the appropriate EPA Information Collection Request (ICR) Number.

SUPPLEMENTARY INFORMATION:

OMB Responses to Agency Clearance Requests

OMB Approvals

EPA ICR Number 1086.10; NSPS for Onshore Natural Gas Processing Plants (40 CFR part 60, subparts KKK and LLL) (Renewal); 40 CFR part 60, subparts A, KKK, and LLL; was approved on 08/05/2014; OMB Number 2060-0120; expires on 08/31/2017; Approved with change.

EPA ICR Number 1367.11; Regulation of Fuels and Fuel Additives: Gasoline Volatility (40 CFR 80.27); 40 CFR 80.27; was approved on 08/06/2014; OMB Number 2060-0178; expires on 08/31/2017; Approved without change.

EPA ICR Number 2193.03; Energy Star Program in the Residential Sector (Renewal); was approved on 08/06/2014; OMB Number 2060-0586; expires on 08/31/2017; Approved with change.

EPA ICR Number 2472.01; Pesticide Spray Drift Reduction Technologies; 40 CFR part 152; was approved on 08/12/2014; OMB Number 2070-0191; expires on 08/31/2017; Approved with change.

EPA ICR Number 2060.06; Cooling Water Intake Structures Phase II Existing Facility (Renewal); 40 CFR parts 122 and 125; was approved on 08/13/2014; OMB Number 2040-0257; expires on 08/31/2017; Approved without change.

EPA ICR Number 0282.16; Engine Emission Defect Information Reports and Voluntary Emission Recall Reports (Renewal); 40 CFR 85, 89, 90, 91, 92, 94, 1035, 1039, 1042, 1045, 1048, 1051, 1054, 1068; was approved on 08/21/2014; OMB Number 2060-0048; expires on 08/31/2017; Approved without change.

EPA ICR Number 1246.12; Reporting and Recordkeeping for Asbestos Abatement Worker Protection; 40 CFR part 763 subpart G; was approved on 08/21/2014; OMB Number 2070-0072; expires on 08/31/2017; Approved without change.

Courtney Kerwin,
Acting Director, Collections Strategies Division.

[FR Doc. 2014-24318 Filed 10-10-14; 8:45 am]

BILLING CODE 6560-50-P